DEPARTMENT OF TRANSPORTATION

Federal Highway Administration

Environmental Impact Statement: Outagamie and Shawano Counties, Wisconsin

AGENCY: Wisconsin Department of Transportation (WisDOT), Federal Highway Administration (FHWA).

ACTION: Rescind notice of intent.

SUMMARY: The FHWA is issuing this revised notice to advise the public that FHWA and WisDOT will not prepare a Tier 1 Environmental Impact Statement (EIS) for long-range transportation improvements in the WIS 47 corridor in Outagamie and Shawano Counties, Wisconsin. A Notice of Intent to prepare an EIS was published in the Federal Register on November 18, 2010.

FOR FURTHER INFORMATION CONTACT: Tracey Blankenship, Major Projects Program Manager, Federal Highway Administration, 525 Junction Road, Suite 8000, Madison, WI 53717; Telephone: (608) 829-7500. You may also contact Matthew Haefs, Wisconsin Department of Transportation, 944 Vanderperren Way, Green Bay, WI 54304; Telephone: (920) 492-5702.

SUPPLEMENTARY INFORMATION: The FHWA, in cooperation with WisDOT, will not prepare an EIS as previously intended on long-range improvements to address transportation demand, traffic operations, safety concerns, and corridor preservation needs on an approximate 33-mile portion of WIS 47 between US 41 in Outagamie County and WIS 29 in Shawano County. The EIS for this corridor is no longer needed because sufficient funds are not available at this time to program design or construction projects that would result from this study.

(Catalog of Federal Domestic Assistance Program Number 20.205, Highway Planning and Construction. The regulations implementing Executive Order 12372 regarding intergovernmental consultation on Federal programs and activities apply to this program.)

AUTHORITY: 23 U.S.C. 315; 49 CFR 1.48.

Dated: Issued on: July 2, 2014.
Tracey Blankenship,
Major Projects Program Manager, Federal Highway Administration, Madison, Wisconsin.

[FR Doc. 2014-16077 Filed 7-8-14; 8:45 am]

BILLING CODE 4910-22-P